DEPARTMENT OF COMMERCE

National Oceanic and Atmospheric Administration

Notice of Intent To Conduct Scoping and To Prepare a Draft Environmental Impact Statement for the Proposed Designation of a National Marine Sanctuary for the Pacific Remote Islands

AGENCY: Office of National Marine Sanctuaries (ONMS), National Ocean Service, National Oceanic and Atmospheric Administration (NOAA), Department of Commerce.

ACTION: Notice of intent to prepare a draft environmental impact statement and hold public scoping meetings; request for comments.

SUMMARY: In accordance with the National Marine Sanctuaries Act (NMSA) and National Environmental Policy Act (NEPA), NOAA is initiating the process to consider designating the submerged lands and waters surrounding the Pacific Remote Islands to the full extent of the U.S. Exclusive Economic Zone (EEZ) as a new national marine sanctuary. NOAA will prepare a draft environmental impact statement (DEIS) for the sanctuary designation process to discuss environmental impacts and inform decision makers and the public of reasonable alternatives that would avoid or minimize adverse impacts or enhance the quality of the human environment. NOAA is initiating the public scoping process to invite comments on the scope and significance of issues to be addressed in the DEIS that are related to designating this area as a national marine sanctuary. The results of this scoping process will assist NOAA in moving forward with the designation process, which would include the preparation and release of draft designation documents, as well as the formulation of alternatives for the DEIS.

DATES: Comments must be received by NOAA on or before June 2, 2023.

Public Meetings: NOAA will host in-person public scoping meetings, with an option to join virtually, at the following dates:

• May 10, 2023—Honolulu, Hawaii

• May 11, 2023—Hilo, Hawaii

• May 17, 2023—Hagatna, Guam

• May 18, 2023—Saipan, Commonwealth of the Northern Mariana Islands

• May 19, 2023—Rota, Commonwealth of the Northern Mariana Islands

• May 20, 2023—Tinian, Commonwealth of the Northern Mariana Islands

• May 24, 2023—Pago Pago, American Samoa

Meeting times, locations, and virtual meeting links will be made available at least 15 days before each meeting, and will be posted at https://sanctuaries.noaa.gov/pacific-remote-islands.

ADDRESSES: You may submit comments on this notice by any of the following methods:

• Federal e-Rulemaking Portal: Go to https://www.regulations.gov and enter “NOAA-NOS-2023-0052” in the Search box. Click on the “Comment” icon, complete the required fields, and enter or attach your comments.

• Mail: Send any hard copy public comments by mail to: PRI-Proposed Sanctuary, NOAA/ONMS, ℅ Hoku Kaaekuahiwi Pousima, 76 Kamehameha Ave., Hilo, HI 96720.

• Public Scoping Meetings: Provide oral comments during virtual and in-person public scoping meetings, as described under DATES. Meeting details and additional information about how to participate in these public scoping meetings is available at https://sanctuaries.noaa.gov/pacific-remote-islands.

Instructions: Comments sent by any other method, to any other address or individual, or received after the end of the comment period, may not be considered. All comments received are a part of the public record and will generally be posted for public viewing on https://www.regulations.gov without change. All personally identifiable information (e.g., name, address, etc.), confidential business information, or otherwise sensitive information submitted voluntarily by the commenter will be publicly accessible. NOAA will accept anonymous comments (in the Federal e-Rulemaking Portal, enter “N/A” in the required fields if you wish to remain anonymous).

FOR FURTHER INFORMATION CONTACT: Hoku Kaaekuahiwi Pousima, (808) 731-8441, proposed.prinms@noaa.gov, NOAA ONMS, Pacific Islands Region Policy Analyst.

SUPPLEMENTARY INFORMATION:

I. Background on the Area Under Consideration

The National Marine Sanctuaries Act, as amended (NMSA), 16 U.S.C. 1431 et seq., authorizes the Secretary of Commerce (Secretary) to designate and protect as national marine sanctuaries areas of the marine environment that are of special national significance due to their conservation, recreational, ecological, historical, scientific, cultural, archeological, educational, or aesthetic qualities. A primary objective of the NMSA is to protect the resources of the National Marine Sanctuary System. Day-to-day management of national marine sanctuaries has been delegated by the Secretary to NOAA's ONMS.

On March 11, 2023, the Pacific Remote Islands Coalition submitted a nomination (https://nominate.noaa.gov/nominations/) to NOAA through the Sanctuary Nomination Process (79 FR 33851), asking NOAA to consider designating the Pacific Remote Islands as a national marine sanctuary to permanently and strongly protect an area of unique, diverse marine ecosystems and cultural and historical importance.

On March 24, 2023, President Biden issued a Presidential Memorandum in which he directed the Secretary to consider initiating the designation of a national marine sanctuary within 30 days to provide the most comprehensive and lasting protections to the significant natural and cultural resources of the submerged lands and waters surrounding the seven islands, atolls, and the reefs of the Pacific Remote Islands Marine National Monument, both within and outside the Monument boundary, to the full extent of the seaward limit of the EEZ, including marine life, shoals, seamounts, reefs, banks, and sediments high in minerals and sequestered carbon dioxide for the benefit of present and future generations. NOAA is initiating the process to designate this area as a national marine sanctuary based on the information included in the Pacific Remote Islands Coalition nomination, as well as the information provided in the Presidential Memorandum.

The diverse and intact ecosystems of the Pacific Remote Islands, including the pelagic seascapes and underwater seamounts, support a host of species from corals and marine mammals to seabirds and deep-sea species found nowhere else in the world. Many threatened, endangered, and depleted species thrive in the area, including the green and hawksbill turtles, pearl oysters, giant clams, sharks, rays, marlin, tuna, groupers, humphead and Napoleon wrasses, bumphead parrotfish, dolphins, and whales. Intact natural ecosystems such as the Pacific Remote Islands are often more resilient to the effects of climate change and can help in the fight against biodiversity loss.

Considering sanctuary designation for the area is also an opportunity to recognize the importance of Indigenous knowledge, stories, and cultural connections between lands and peoples, and celebrate the individual nature of cultures. Although uninhabited today, for centuries wayfinders of Pacific Island Indigenous Peoples visited these islands while navigating through the expanse of the vast Pacific Ocean. Native Hawaiians, Chamorro, and other Indigenous Peoples voyaged between distant communities across this vast swath of the Central and Western Pacific, wayfinding with great proficiency using the stars, winds, and currents. Their sail routes are being used once again by contemporary open-ocean wayfinders who are reinvigorating the legacy of their ancestors. Additionally, the bravery and sacrifice of the Hui Panalā'au—a group of 130 young men, mostly Native Hawaiian, who voluntarily occupied the islands of Jarvis, Baker, and Howland from 1935 to 1942 helped secure America's territorial claim.

In 2009, President George W. Bush, through Presidential Proclamation 8336, established the Pacific Remote Islands Marine National Monument, which protected the islands, atolls, and emergent reef, and approximately 50 nautical miles of water around each. In 2014, President Barack Obama, through Presidential Proclamation 9173, expanded the Monument to include 200 nautical miles—the full extent of the EEZ—around Jarvis and Wake Islands and Johnston Atoll. The Monument is cooperatively managed by the Secretary of Commerce (NOAA) and the Secretary of the Interior (U.S. Fish and Wildlife Service). Within the boundaries of the Monument, the U.S. Fish and Wildlife Service administers National Wildlife Refuges at Baker, Howland, and Jarvis Islands; Palmyra, Johnston, and Rose Atoll; and Kingman Reef. In addition, Wake Island and Johnson Atoll are under the administrative jurisdiction of the Department of Defense.

The areas around Howland and Baker Islands, Palmyra Atoll, and Kingman Reef that are outside the Monument and National Wildlife Refuge boundaries include ecologically significant deep-water habitats and an associated array of seamounts with exceptional value for their biodiversity; spawning and feeding grounds for skipjack, yellowfin, and bigeye tuna species; and multiple apex predators that play a vital role in maintaining ecological balance and resilience of the ecosystem. Research continues to reveal the importance of these relatively unexplored habitats to the health, nutrient cycling, and carbon sequestration of the ocean.

The Pacific Remote Islands Coalition nomination and Presidential Memorandum propose that a sanctuary should encompass the areas of the marine environment within the existing Pacific Remote Islands Marine National Monument, including the marine environment surrounding Wake, Johnston, and Palmyra Atolls; Howland, Baker, and Jarvis Islands; and Kingman Reef; extending to the outer limit of the EEZ (200 nautical miles), an area totaling approximately 24 million square kilometers (770,000 square miles). Wake, Johnston, and Palmyra Atolls; Howland, Baker, and Jarvis Islands; and Kingman Reef are all unincorporated territories of the United States.

The Monument will continue to be jointly managed by the Secretary of Commerce and the Secretary of the Interior. Designation of the proposed national marine sanctuary would strengthen and increase the long-term protections already existing in the Monument, and cannot diminish them. Sanctuary designation would provide another layer of protection to continue conserving and honoring this place.

A visual of the proposed national marine sanctuary, which may be considered for sanctuary designation, can be found at https://sanctuaries.noaa.gov/pacific-remote-islands. This visual is for reference purposes only to aid in the scoping process; it does not constitute a proposed boundary for the proposed sanctuary designation.

II. Public Scoping Process

With this notice, NOAA is initiating a public scoping process to gather input from individuals, Federal, State, territorial, and local agencies, Native Hawaiian Organizations, and other representatives of Indigenous Peoples with ancestral, historic, and cultural connections to the area. NOAA intends to use this process to determine the scope of issues for analysis in the DEIS. While the public may comment on all matters relevant to the proposed designation of a national marine sanctuary in the Pacific Remote Islands, NOAA specifically requests comments on the following topics:

• the spatial extent of the proposed sanctuary, and boundary alternatives NOAA should consider;

• the location, nature, and value of resources that would be protected by a sanctuary;

• specific threats to these resources;

• the regulatory framework most appropriate for management of the proposed sanctuary;

• the non-regulatory actions NOAA should prioritize within its draft management plan for the proposed sanctuary;

• the potential socioeconomic, cultural, and biological impacts of sanctuary designation;

• information regarding historic properties in the entire area under consideration for a sanctuary designation and the potential effects to those historic properties; and

• other information relevant to the designation and management of a national marine sanctuary.

III. Background on Sanctuary Designation Process

The designation process includes the following well-established and highly participatory stages:

1. Public Scoping Process—Information collection and characterization, including the consideration of public comments received during scoping, and coordination under the NMSA section 304(a)(5) with the Western Pacific Regional Fishery Management Council on the preparation of draft fishing regulations as necessary to implement the proposed designation;

2. Preparation of Draft Documents—Preparation and release of draft designation documents, including: a DEIS, prepared pursuant to NEPA, that identifies boundary and/or regulatory alternatives; a draft management plan; and a notice of proposed rulemaking to define proposed sanctuary regulations. Draft documents would be used to initiate consultations with Federal, State, territorial, or local agencies, Tribes, and other interested parties, as appropriate;

3. Public Comment—Through public meetings and in writing, allow for public review and comment on a DEIS, draft management plan, and notice of proposed rulemaking;

4. Preparation of Final Documents—Preparation and release of a final environmental impact statement (FEIS), final management plan, including a response to public comments, and a final rule and regulations.

5. Review Period—The sanctuary designation and regulations would take effect after the end of a review period of forty-five days of a continuous session of Congress.

IV. Development of a Draft Environmental Impact Statement

In accordance with the NMSA, NOAA must draft an environmental impact statement pursuant to NEPA when designating a national marine sanctuary. The input gathered during the public scoping process is fundamental to NOAA's development of a DEIS.

A. Purpose and Need for Sanctuary Designation

The NMSA directs ONMS to identify and designate as national marine sanctuaries areas of the marine (including the Great Lakes) environment that are of special national significance, provides authority for comprehensive and coordinated conservation and management of these marine areas, and directs ONMS to protect the resources of these areas. The purpose and need for the proposed action is to consider whether a sanctuary designation in the Pacific Remote Islands area would fulfill the purposes and policies outlined in section 301(b) of the NMSA, 16 U.S.C. 1431(b), and meet the sanctuary designation standards in section 303 of the NMSA, 16 U.S.C. 1433.

B. Preliminary Description of Proposed Action and Alternatives

NOAA's proposed action is to consider designating the submerged lands and waters surrounding the Pacific Remote Islands to the full extent of the EEZ as a national marine sanctuary following the designation process in section 304 of the NMSA (16 U.S.C. 1434). As part of the sanctuary designation process, NOAA will develop designation materials, including a draft sanctuary management plan, proposed sanctuary regulations, and proposed terms of designation. Each national marine sanctuary has management programs developed with public input and crafted to meet the specific issues and protect resources found in that sanctuary.

The NEPA process will include preparation of a DEIS to consider alternatives and to describe potential effects of the proposed sanctuary designation on the human environment. The DEIS will evaluate a reasonable range of action alternatives that could include different options for management goals or actions, sanctuary regulations, and potential boundaries. The DEIS will also consider a No Action Alternative, wherein NOAA would not designate the proposed sanctuary. Any proposed sanctuary regulations would be separate from, but supplementary and complementary to, existing management authorities in the area.

The results of this public scoping process will assist NOAA in moving forward with the designation process, including preparation and release of draft documents, and formulating alternatives for the DEIS. Reasonable alternatives that are identified during the scoping period will be evaluated in the DEIS.

C. Summary of Expected Impacts of Sanctuary Designation

The DEIS will identify and describe significant environmental impacts and inform decision makers and the public of reasonable alternatives that would avoid or minimize adverse impacts or enhance the quality of the human environment. The proposed action may have impacts, or effects, on these areas:

• marine resources, including habitats, plants, birds, sea turtles, marine mammals, and special status species;

• maritime, cultural, and historic resources and properties, including Traditional Cultural Properties and archaeological sites; and

• human uses and socioeconomics, including research, recreation, education, cultural practices, and fishing.

Based on a preliminary evaluation of the resources listed above, NOAA expects impacts of the proposed action to include: continued or enhanced long-term protection of the Pacific Remote Islands'natural, cultural and historic resources; improved planning and coordination of research, monitoring, and management actions; reduced disturbance of special status species; reduced threats and stressors to the area's resources; and minimal disturbance during research or restoration actions conducted by or on behalf of the sanctuary.

D. NEPA Lead and Cooperating Agency Roles

NOAA will serve as the lead Federal agency for the NEPA process for the proposed action. Upon request of NOAA, any Federal agency with jurisdiction by law shall become a cooperating agency and any Federal agency with special expertise with respect to any environmental impact may become a cooperating agency. A State, Tribal, or local agency of similar qualifications may become a cooperating agency by agreement with NOAA in accordance with 40 CFR 1501.8.

E. Schedule for the Decision-Making Process

NOAA expects to make the DEIS and other draft sanctuary designation documents available to the public in February 2024. NOAA expects to make the FEIS for sanctuary designation available to the public in December 2024. A Record of Decision will be issued no sooner than 30 days after the FEIS is made available to the public in accordance with 40 CFR 1506.11.

F. Anticipated Permits, Authorizations, and Consultations

Federal permits, authorizations, or consultations may be required for the proposed action, including consultation under the Endangered Species Act, 16 U.S.C. 1531 et seq., Magnuson-Stevens Fishery Conservation and Management Act, 16 U.S.C. 1801 et seq., National Historic Preservation Act (NHPA), 54 U.S.C. 300101 et seq., and possibly reviews under other laws and regulations determined to be applicable to the proposed action. To the fullest extent possible, NOAA will prepare the DEIS concurrently and integrated with analyses required by other Federal environmental review requirements, and the DEIS will list all Federal permits, licenses, and other authorizations that must be obtained in implementing the proposed action, in accordance with 40 CFR 1502.24. This notice also confirms that, with respect to the proposed sanctuary designation process, NOAA will fulfill any applicable responsibilities under Executive Order 13175, “Consultation and Coordination with Indian Tribal Governments,” and NOAA's implementing policies and procedures.

Authority: 16 U.S.C. 1431 et seq.; 42 U.S.C. 4321 et seq.; 40 CFR 1500-1508 (NEPA Implementing Regulations); NOAA Administrative Order 216-6A.

John Armor,
Director, Office of National Marine Sanctuaries, National Ocean Service, National Oceanic and Atmospheric Administration.

[FR Doc. 2023-08170 Filed 4-17-23; 8:45 am]

BILLING CODE 3510-NK-P